NUCLEAR REGULATORY COMMISSION

Advisory Committee on Reactor Safeguards (ACRS); Meeting of the ACRS Subcommittee on Digital I&C; Cancellation of the June 19, 2012 ACRS Subcommittee Meeting

The ACRS Subcommittee meeting on Digital I&C scheduled for June 19, 2012 has been cancelled.

The notice of this meeting was previously published in the Federal Register on Monday, June 4, 2012, (77 FR 33003-33004).

Information regarding this meeting can be obtained by contacting Christina Antonescu, Designated Federal Official (DFO) (Telephone 301-415-6792 or Email: Christina.Antonescu@nrc.gov) between 7:30 a.m. and 5:15 p.m. (EST)).

Dated: June 8, 2012.
Antonio Dias,
Technical Advisor, Advisory Committee on Reactor Safeguards.

[FR Doc. 2012-14667 Filed 6-14-12; 8:45 am]

BILLING CODE 7590-01-P